ENVIRONMENTAL PROTECTION AGENCY

[FRL-9959-97-OARM]

National and Governmental Advisory Committees

AGENCY: Environmental Protection Agency (EPA).

ACTION: Notice of public advisory committee meeting.

SUMMARY: Pursuant to the Federal Advisory Committee Act, Public Law 92-463, notice is hereby given that the National Advisory Committee and the Governmental Advisory Committee will hold a public meeting on Tuesday, March 28 and Wednesday, March 29, 2017 in Washington, DC. The meeting is open to the public. Due to unforeseen administrative circumstances, EPA is announcing this meeting with less than 15 calendar days notice.

DATES: The National and Governmental Advisory Committees will hold an open meeting on Tuesday, March 28, 2017 from 9:00 a.m. to 5:30 p.m., and Wednesday, March 29, 2017 from 9:00 a.m. until 3:00 p.m.

Purpose of Meeting: The purpose of the meeting is to provide advice on the draft CEC 2017-18 Operational Plan and to discuss other trade and environment issues in North America. The meeting will also include a public comment session.

ADDRESSES: The meeting will be held at the U.S. EPA, Conference Room 2138, located in the William Jefferson Clinton South Building, 1200 Pennsylvania Ave. NW., Washington, DC 20004. Telephone: 202-564-2294. The meeting is open to the public, with limited seating on a first-come, first-served basis.

General Information: The agenda, meeting materials, and general information about the NAC and GAC will be available at http://www2.epa.gov/faca/nac-gac. If you wish to make oral comments or submit written comments to the NAC/GAC please contact Oscar Carrillo at least five days prior to the meeting at carrillo.oscar@epa.gov.

Meeting Access: For information on access or services for individuals with disabilities, please contact Oscar Carrillo at 202-564-0347 or carrillo.oscar@epa.gov. To request accommodation of a disability, please contact Oscar Carrillo, preferably at least 10 days prior to the meeting, to give EPA as much time as possible to process your request.

Dated: February 28, 2017.
Oscar Carrillo,
Designated Federal Officer.

[FR Doc. 2017-05719 Filed 3-21-17; 8:45 am]

BILLING CODE 6560-50-P